DEPARTMENT OF THE INTERIOR

National Park Service

[NPS-WASO-NAGPRA-17698; PPWOCRADN0-PCU00RP14.R50000]

Notice of Inventory Completion: Arizona State Museum, University of Arizona, Tucson, AZ

AGENCY: National Park Service, Interior.

ACTION: Notice.

SUMMARY: The Arizona State Museum, University of Arizona has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Arizona State Museum, University of Arizona. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Arizona State Museum, University of Arizona at the address in this notice by May 1, 2015.

ADDRESSES: John McClelland, NAGPRA Coordinator, Arizona State Museum, University of Arizona, P.O. Box 210026, Tucson, AZ 85721, telephone (520) 626-2950.

SUPPLEMENTARY INFORMATION: Notice is here given in accordance with the Native American Graves Protection and Repatriation Act (NAGPRA), 25 U.S.C. 3003, of the completion of an inventory of human remains under the control of the Arizona State Museum, University of Arizona, Tucson, AZ. The human remains were removed from a site in Yavapai County, AZ.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Arizona State Museum professional staff in consultation with representatives of the Ak Chin Indian Community of the Maricopa (Ak Chin) Indian Reservation, Arizona; Fort McDowell Yavapai Nation, Arizona; Gila River Indian Community of the Gila River Indian Reservation, Arizona; Hopi Tribe of Arizona; Salt River Pima-Maricopa Indian Community of the Salt River Reservation, Arizona; Tohono O'odham Nation of Arizona; Yavapai-Prescott Indian Tribe (previously listed as the Yavapai-Prescott Tribe of the Yavapai Reservation, Arizona); and Zuni Tribe of the Zuni Reservation, New Mexico.

History and Description of the Remains

In 1936-1940, human remains representing, at minimum, four individuals were removed from Montezuma Well, AZ O:5:92(ASM), in Yavapai County, AZ. The burials were excavated by William Back, who was the landowner before the property was purchased by the National Park Service. The fragmentary human remains, all representing adult individuals, were accessioned by the Arizona State Museum on an unknown date prior to 1951. No known individuals were identified. No associated funerary objects are present.

Montezuma Well is a large limestone sinkhole filled with warm spring water that has served as an important resource for wildlife and people of the Verde Valley for thousands of years. The earliest evidence of human occupation near the well consists of Hohokam pit houses and irrigation structures dating to about A.D. 700. Beginning about A.D. 1100, people characterized by archeologists as Sinagua appeared in the Montezuma Well area and established a small pueblo on the rim of the well. Two burial areas were located in the well vicinity. These areas appear to have been most heavily utilized during the Honanki and Tuzigoot phases, A.D. 1125-1400, based on ceramic typologies.

The Ak Chin Indian Community of Maricopa (Ak Chin) Reservation, Arizona; Gila River Indian Community of the Gila River Indian Reservation, Arizona; Salt River Pima-Maricopa Indian Community of the Salt River Reservation, Arizona; and the Tohono O'odham Nation of Arizona comprise one cultural group known as the O'odham. Material culture items found at the site, including associated funerary objects, demonstrate continuity between the prehistoric occupants of the Montezuma Well area and the O'odham. Locally made plainware ceramics are similar in construction and appearance to plainware ceramics made in lands attributed to the Hohokam archeological culture, commonly considered to be ancestral O'odham. Consultation with O'odham tribes also includes oral traditions that describe ancestral O'odham people living in the region.

The Fort McDowell Yavapai Nation, Arizona, traces ancestry to Yavapai bands once living in the Verde Valley. Consultation with Yavapai tribes indicates the existence of a specific ancestral name for Montezuma Well, oral traditions that attribute the rooms built around the well to Yavapai ancestors, and a belief that the well was a place of emergence for the Yavapai people. Archeological sites identified as Yavapai have also been found in the same region.

The Hopi Tribe of Arizona considers all of Arizona to be within traditional Hopi lands or within areas where Hopi clans migrated in the past. Evidence demonstrating continuity between the people of Montezuma Well and the Hopi Tribe includes archeological, anthropological, linguistic, folkloric and oral traditions. Burial patterns noted at Montezuma Well are also similar in appearance to burials at other ancestral Hopi sites. During consultation, Hopi clan members also identified ancestral names and traditional stories about specific events and ancestral people at Montezuma Well.

The Yavapai-Prescott Indian Tribe (previously listed as the Yavapai-Prescott Tribe of the Yavapai Reservation, Arizona) traces ancestry to Yavapai bands once living in the Verde Valley. Consultation with Yavapai tribes indicates the existence of a specific ancestral name for Montezuma Well, oral traditions that attribute the rooms built around the well to Yavapai ancestors, and a belief that the well was a place of emergence for the Yavapai people. Archeological sites identified as Yavapai have also been in the same region.

The Zuni Tribe of the Zuni Reservation, New Mexico, considers the Verde Valley to be within the migration path of ancestral Zuni people. Archeological evidence demonstrates continuity between the people of the Montezuma Well region and the people of Zuni. Material culture items, such as ceramic designs, are similar in appearance and construction to historic Zuni items.

Determinations Made by the Arizona State Museum, University of Arizona

Officials of the Arizona State Museum, University of Arizona have determined that:

• Pursuant to 25 U.S.C. 3001(9), the human remains described in this notice represent the physical remains of four individuals of Native American ancestry.

• Pursuant to 25 U.S.C. 3001(2), there is a relationship of shared group identity that can be reasonably traced between the Native American human remains and the Ak Chin Indian Community of the Maricopa (Ak Chin) Indian Reservation, Arizona; Fort McDowell Yavapai Nation, Arizona; Gila River Indian Community of the Gila River Indian Reservation, Arizona; Hopi Tribe of Arizona; Salt River Pima-Maricopa Indian Community of the Salt River Reservation, Arizona; Tohono O'odham Nation of Arizona; Yavapai-Prescott Indian Tribe (previously listed as the Yavapai-Prescott Tribe of the Yavapai Reservation, Arizona); and Zuni Tribe of the Zuni Reservation, New Mexico.

Additional Requestors and Disposition

Lineal descendants or representatives of any Indian tribe or Native Hawaiian organization not identified in this notice that wish to request transfer of control of these human remains should submit a written request with information in support of the request to John McClelland, NAGPRA Coordinator, Arizona State Museum, University of Arizona, P.O. Box 210026, Tucson, AZ 85721, telephone (520) 626-2950, by May 1, 2015. After that date, if no additional requestors have come forward, transfer of control of the human remains to the Ak Chin Indian Community of the Maricopa (Ak Chin) Indian Reservation, Arizona; Fort McDowell Yavapai Nation, Arizona; Gila River Indian Community of the Gila River Indian Reservation, Arizona; Hopi Tribe of Arizona; Salt River Pima-Maricopa Indian Community of the Salt River Reservation, Arizona; Tohono O'odham Nation of Arizona; Yavapai-Prescott Indian Tribe (previously listed as the Yavapai-Prescott Tribe of the Yavapai Reservation, Arizona); and Zuni Tribe of the Zuni Reservation, New Mexico, may proceed.

The Arizona State Museum is responsible for notifying the Ak Chin Indian Community of the Maricopa (Ak Chin) Indian Reservation, Arizona; Fort McDowell Yavapai Nation, Arizona; Gila River Indian Community of the Gila River Indian Reservation, Arizona; Hopi Tribe of Arizona; Salt River Pima-Maricopa Indian Community of the Salt River Reservation, Arizona; Tohono O'odham Nation of Arizona; Yavapai-Prescott Indian Tribe (previously listed as the Yavapai-Prescott Tribe of the Yavapai Reservation, Arizona); and Zuni Tribe of the Zuni Reservation, New Mexico, that this notice has been published.

Dated: February 17, 2015.
Melanie O'Brien,
Acting Manager, National NAGPRA Program.

[FR Doc. 2015-07398 Filed 3-31-15; 8:45 am]

BILLING CODE 4312-50-P